DEPARTMENT OF COMMERCE

National Oceanic and Atmospheric Administration

50 CFR Part 648

[Docket No. 140214138-4482-02]

RIN 0648-XE189

Fisheries of the Northeastern United States; Bluefish Fishery and Summer Flounder Fishery; Commercial Quota Harvested for the State of Massachusetts

AGENCY: National Marine Fisheries Service (NMFS), National Oceanic and Atmospheric Administration (NOAA), Commerce.

ACTION: Temporary rule; closures.

SUMMARY: NMFS announces that the 2015 commercial bluefish and summer flounder quota allocated to the Commonwealth of Massachusetts has been harvested. Vessels issued commercial Federal fisheries permits for these fisheries may not land bluefish or summer flounder in Massachusetts for the remainder of calendar year 2015, unless additional quota becomes available through a transfer from another state. Regulations governing these fisheries require publication of this notice to advise Massachusetts that the quota has been harvested, and to advise Federal vessel and dealer permit holders that no Federal commercial quota is available to land bluefish or summer flounder in Massachusetts.

DATES: Effective 0001 hours, September 17, 2015, through December 31, 2015 for summer flounder and effective 0001 hours, September 19, 2015, through December 31, 2015 for bluefish.

FOR FURTHER INFORMATION CONTACT: Reid Lichwell, (978) 281-9112, or Reid.Lichwell@noaa.gov.

SUPPLEMENTARY INFORMATION: Regulations governing the bluefish fishery and summer flounder fishery are found at 50 CFR part 648. The bluefish regulations require annual specification of a commercial quota that is apportioned on a percentage basis among the coastal states from Florida through Maine, while the summer flounder regulations require annual specification of commercial quota that is apportioned based on a percentage basis among coastal states from North Carolina through Maine. The processes to set the annual commercial quotas and the percent allocated to each state are described in § 648.162 and § 648.102 for bluefish and summer flounder, respectively.

The initial coastwide commercial quota for bluefish for the 2015 fishing year is 5,241,202 lb (2,377,371 kg) (80 FR 46848, August 6, 2015). The percent allocated to vessels landing bluefish in Massachusetts is 6.7167 percent, resulting in an initial commercial quota of 352,036 lb (159,681 kg). The 2015 allocation was adjusted to 602,036 lb (273,079 kg) to reflect quota transfers from other states.

The initial coastwide commercial quota for summer flounder for the 2015 fishing year was set at 11,069,410 lb (5,021,000 kg) (79 FR 78311, December 30, 2014). The percent allocated to vessels landing summer flounder in Massachusetts is 6.82046 percent, resulting in an initial commercial quota of 754,985 lb (340,165 kg). The 2015 allocation was adjusted to 760,785 lb (345,086 kg) to reflect quota overages from 2014 and quota transfers from other states.

The Administrator, Greater Atlantic Region, NMFS (Regional Administrator), monitors the state commercial quotas and determines when a state's commercial quota has been harvested. NMFS is required to publish a notice in the Federal Register alerting Federal commercial vessel and dealer permit holders that, effective upon a specific date, the state's commercial quota has been harvested and no commercial quota is available to land bluefish or summer flounder in that state. The Regional Administrator has determined, based upon dealer reports and other available information, that Massachusetts has harvested its quota for 2015.

Section 648.4(b) provides that Federal permit holders agree, as a condition of the permit, not to land bluefish or summer flounder in any state that the Regional Administrator has determined no longer has commercial quota available. Therefore, vessels holding Federal commercial permits are prohibited from landing summer flounder, effective 0001 hours, September 17, 2015 and/or bluefish, effective 0001 hours, September 19, 2015 for the remainder of the 2015 calendar year, unless additional quota becomes available through a transfer and is announced in the Federal Register. Federally permitted dealers are also notified that they may not purchase summer flounder, effective 0001 hours, September 17, 2015 and/or bluefish, effective 0001 hours, September 19, 2015 from federally permitted vessels that land in Massachusetts for the remainder of the calendar year, or until additional quota becomes available through a transfer from another state.

Classification

This action is required by 50 CFR part 648 and is exempt from review under Executive Order 12866.

The Assistant Administrator for Fisheries, NOAA (AA), finds good cause pursuant to 5 U.S.C. 553(b)(B) to waive prior notice and the opportunity for public comment because it would be contrary to the public interest. This action closes the bluefish fishery and summer flounder fishery for Massachusetts until January 1, 2016, under current regulations. The regulations at § 648.103(b) require such action to ensure that vessels do not exceed state quotas. If implementation of this closure was delayed to solicit prior public comment, the quota for this fishing year would be exceeded, thereby undermining the conservation objectives of the Atlantic Bluefish Fishery Management Plan and the Summer Flounder Fishery Management Plan. The AA further finds, pursuant to 5 U.S.C. 553(d)(3), good cause to waive the thirty (30) day delayed effectiveness period for the reason stated above.

Authority: 16 U.S.C. 1801 et seq.

Dated: September 15, 2015.
Emily H. Menashes,
Acting Director, Office of Sustainable Fisheries, National Marine Fisheries Service.

[FR Doc. 2015-23598 Filed 9-16-15; 4:15 pm]

BILLING CODE 3510-22-P